NATIONAL CREDIT UNION ADMINISTRATION

Sunshine Act Meeting

TIME AND DATE: 10:00 a.m., Thursday, April 21, 2016.

PLACE: Board Room, 7th Floor, Room 7047, 1775 Duke Street (All visitors must use Diagonal Road Entrance), Alexandria, VA 22314-3428.

STATUS: Open.

MATTERS TO BE CONSIDERED: 1. National Credit Union Share Insurance Fund Quarterly Report.

2. NCUA's Rules and Regulations, Incentive-Based Executive Compensation.

3. NCUA's Rules and Regulations, Federal Credit Union Occupancy, Planning, and Disposal of Acquired and Abandoned Premises; Incidental Powers.

RECESS: 11:00 a.m.

TIME AND DATE: 11:15 a.m., Thursday, April 21, 2016.

PLACE: Board Room, 7th Floor, Room 7047, 1775 Duke Street, Alexandria, VA 22314-3428.

STATUS: Closed.

MATTERS TO BE CONSIDERED: 1. Supervisory Matter. Closed pursuant to Exemption (8).

FOR FURTHER INFORMATION CONTACT: Gerard Poliquin, Secretary of the Board, Telephone: 703-518-6304.

Gerard Poliquin,
Secretary of the Board.

[FR Doc. 2016-09039 Filed 4-14-16; 4:15 pm]

BILLING CODE 7535-01-P